DEPARTMENT OF COMMERCE

International Trade Administration

U.S. Department of Commerce Trade Finance Advisory Council; Meeting

AGENCY: International Trade Administration, U.S. Department of Commerce.

ACTION: Notice of an open meeting.

SUMMARY: The U.S. Department of Commerce Trade Finance Advisory Council (TFAC or Council) will hold a meeting via a teleconference or a videoconference on Thursday, July 16, 2020. The meeting is open to the public with registration instructions provided below.

DATES: Thursday, July 16, 2020, from approximately 12:45 p.m. to 3:15 p.m. Eastern Time (ET). The deadline for members of the public to register, including requests to make comments during the meeting or to submit written comments for dissemination prior to the meeting, is 5:00 p.m. ET on Wednesday, July 8, 2020. Registration, comments, and any requests should be submitted via email to TFAC@trade.gov.

ADDRESSES: The meeting will be held via a teleconference or a videoconference. The call-in number and passcode and/or the log-in details will be provided by email to registrants. Requests to register and any written comments should be submitted via email to TFAC@trade.gov.

FOR FURTHER INFORMATION CONTACT: Yuki Fujiyama, TFAC Designated Federal Officer (DFO) and Executive Secretary, Office of Finance and Insurance Industries, International Trade Administration, U.S. Department of Commerce at (202) 482-3468; email: Yuki.Fujiyama@trade.gov.

SUPPLEMENTARY INFORMATION: Background: The TFAC was established on August 11, 2016, pursuant to discretionary authority and in accordance with the Federal Advisory Committee Act, as amended, 5 U.S.C. App., and re-chartered for a second two-year term on August 9, 2018. The TFAC serves as the principal advisory body to the Secretary of Commerce on policy matters relating to access to trade finance for U.S. exporters, including small- and medium-sized enterprises, and their foreign buyers. The TFAC is the mechanism by which the Department of Commerce (the Department) convenes private sector stakeholders to identify and develop consensus-based solutions to trade finance challenges. The Council is comprised of a diverse group of stakeholders from the trade finance industry and the U.S. exporting community, as well as experts from academia and public policy organizations.

On Thursday, July 16, 2020, the TFAC will hold the sixth and final meeting of its second (2018-2020) charter term via a teleconference or a videoconference. During this meeting, members are expected to discuss possible recommendations on policies and programs that can increase awareness of, and expand access to, export financing resources for U.S. exporters. Meeting minutes will be available within 90 days of the meeting upon request or on the TFAC's website at https://www.trade.gov/about-us/trade-finance-advisory-committee.

Public Participation: The meeting will be open to the public and there will be limited time permitted for public comments. In order to be considered at the meeting, comments from members of the public must be submitted by the deadline identified under the DATE caption. Requests from members of the public to participate in the meeting must be received by the same date. Request should be submitted electronically to TFAC@trade.gov. Last minute requests will be accepted, but may not be possible to accommodate.

Members of the public may submit written comments concerning TFAC affairs at any time before or after a meeting. Comments may be submitted to TFAC DFO Yuki Fujiyama, at the contact information indicated above. All comments and statements received, including attachments and other supporting materials, are part of the public record and subject to public disclosure.

Michael Fuchs,
Acting Director, Office of Finance and Insurance Industries, Industry & Analysis, International Trade Administration, U.S. Department of Commerce.

[FR Doc. 2020-13980 Filed 6-26-20; 8:45 am]

BILLING CODE 3510-DR-P